DEPARTMENT OF HEALTH AND HUMAN SERVICES

Administration for Children and Families

Grant to National Adoption Center, Inc. ACF/ACY/CB-2000-03

AGENCY: Administration on Children, Youth and Families (ACYF), ACF, DHHS.

ACTION: Notice of award.

SUMMARY: Notice is hereby given that ACYF will award grant funds without competition to the National Adoption Center, Inc. (NAC), Philadelphia, Pennsylvania. This grant is a sole source award which will support the operation of the National Adoption Information Exchange and the continued development, expansion and implementation of a national Internet-based photo-listing activity. This award is made noncompetitively after our review of a proposal submitted by the NAC.

Background

In 1983, the National Adoption Center (then doing business as the Adoption Center of Delaware Valley) received a competitive grant award for a field-initiated proposal to develop a computerized database of children freed for adoption and waiting placement from state child welfare agencies. This database activity became known as the National Adoption Exchange and had been authorized in law in 1978 with the passage of the Adoption Opportunities Act. Currently, children are entered into the database by caseworkers from 44 States, though all 50 States are members of the exchange system and may enter information on adoptable children into the database. Subsequent to the development of the database/exchange in the mid-1990s, NAC developed a small internet-based listing, with accompanying photographs, of some of the children, using privately generated funds and in-kind expert services from computer software corporations. Currently, this photo listing has expanded to include children from 43 State child welfare agencies.

In 1998, President Clinton announced an initiative to mount a national internet-based photo listing of children adoptable from public child welfare agencies. In FY 2000, the Congressional Conference Report Language included a reference to NAC by saying, “The conference agreement includes $400,000 for the National Adoption Center to develop a national adoption photo listing service on the Internet.” The Senate Report Language also referenced NAC by saying “The Committee recognizes that, under the Adoption and Safe Families Act, States are required to use all available resources to find homes for children. The Committee is aware that the National Adoption Center operates a multi-state, technology-based adoption clearinghouse to facilitate placement of needy children with adoptive parents. The Committee understands that the Department plans to implement a national adoption photo listing service on the Internet to help increase the number of adoptions. The Committee supports the idea that a national web site could include all youngsters available in public adoptions and will increase the likelihood that children will find loving, stable homes. The National Adoption Center has been at the forefront of developing and implementing technology-based resources to help facilitate adoptions and could be instrumental in creating a national adoption web site.”

Following our review of the proposal submitted by the NAC for these activities, this award is made noncompetively. The NAC proposal presents a unique opportunity to produce important progress on a set of tasks of significant interest to the Department.

The project period will be for 24 months, beginning September 29, 2000 and ending September 30, 2001. The grantee will be awarded $900,000 during the first twelve months of the project period. The grantee may, in the second twelve months of the project period, be awarded additional noncompetitive continuation funding of up to $1.6 million, depending on the availability of funds, satisfactory performance by the grantee, and a determination that such continued funding would be in the best interest of the government.

Authority: This award will be made pursuant to the Adoption Opportunities: Title II of the Child Abuse Prevention and Treatment and Adoption Reform Act of 1978, as amended [42 U.S.C. 5111]. (CFDA 93.652).

FOR FURTHER INFORMATION CONTACT: Sally Flanzer, Children's Bureau, Administration on Children, Youth and Families, 330 C Street, SW, Room 2429, Washington, D.C. 20447; Telephone: (202) 205-8914.

Dated: September 20, 2000.
Patricia Montoya,
Commissioner, Administration on Children, Youth and Families.

[FR Doc. 00-24717 Filed 9-26-00; 8:45 am]

BILLING CODE 4184-01-M